ENVIRONMENTAL PROTECTION AGENCY

40 CFR Part 62

[Docket No. ID-02-0001; FRL-6580-5]

Approval and Promulgation of Hospital/Medical/Infectious Waste Incinerators State Plan for Designated Facilities and Pollutants: Idaho

AGENCY: Environmental Protection Agency (EPA).

ACTION: Proposed rule.

SUMMARY: The EPA proposes to approve the State of Idaho's section 111(d) State Plan for controlling emissions from existing Hospital/Medical/Infectious Waste Incinerators (HMIWI). The plan was submitted on December 16, 1999, to fulfill the requirements of sections 111(d) and 129 of the Clean Air Act. The State Plan adopts and implements the Emissions Guidelines applicable to existing HMIWIs, and establishes emission limits and controls for sources constructed on or before June 20, 1996.

In the final rules section of this Federal Register, the EPA is approving Idaho's State Plan as a direct final rule without prior proposal because the Agency views this as a noncontroversial action and anticipates no relevant adverse comments. A detailed rationale for the approval is set forth in the direct final rule. If no relevant adverse comments are received in response to this action, EPA will not take action on this proposed rule. If the EPA receives relevant adverse comments, EPA will withdraw the direct final rule and it will not take effect. EPA will then address all public comments received in a subsequent final rule based on this proposed rule. The EPA will not institute a second comment period on this action.

DATES: Written comments must be received by May 22, 2000.

ADDRESSES: Written comments should be addressed to: Catherine Woo, US EPA, Region X, Office of Air Quality (OAQ-107), 1200 Sixth Avenue, Seattle, WA 98101.

Copies of the State submittal are available for public review during normal business hours at the following locations. Persons wanting to examine these documents should make an appointment with the appropriate office at least 24 hours before the day of the visit.

Environmental Protection Agency, Region X, Office of Air Quality, 1200 Sixth Avenue, Seattle, WA 98101.

Idaho Division of Environmental Quality, 1410 N. Hilton, Boise, ID 83720 (Contact Tim Teater at 208-373-0457 for an appointment at IDEQ).

FOR FURTHER INFORMATION CONTACT: Catherine Woo, Office of Air Quality (OAQ-107), US EPA, Region X, 1200 Sixth Avenue, Seattle, WA 98101, (206) 553-1814.

SUPPLEMENTARY INFORMATION: For additional information see the direct final action which is published in the Rules section of this Federal Register.

Dated: April 4, 2000.
Chuck Clarke,
Regional Administrator, Region 10.

[FR Doc. 00-9649 Filed 4-20-00; 8:45 am]

BILLING CODE 6560-50-P